DEPARTMENT OF THE INTERIOR

Geological Survey

Establishment of the Advisory Committee on Climate Change and Natural Resource Science

AGENCY: U.S. Geological Survey, Interior.

ACTION: Notice of establishment; request for nominees.

SUMMARY: The U.S. Department of the Interior (DOI) is establishing and seeking nominations for the Advisory Committee on Climate Change and Natural Resource Science (Committee). The Committee will provide advice on matters and actions relating to the establishment and operations of the U.S. Geological Survey National Climate Change and Wildlife Science Center and the DOI Climate Science Centers. In doing so, the Committee will obtain input from Federal, state, tribal, local government, nongovernmental organizations, private sector entities, and academic institutions.

DATES: Written nominations must be received by November 19, 2012.

ADDRESSES: Send nominations to: Robin O'Malley, Policy and Partnership Coordinator, National Climate Change and Wildlife Science Center, U.S. Geological Survey, 12201 Sunrise Valley Drive, Mail Stop 400, Reston, VA 20192, romalley@usgs.gov.

FOR FURTHER INFORMATION CONTACT: Robin O'Malley, Policy and Partnership Coordinator, National Climate Change and Wildlife Science Center, U.S. Geological Survey, 12201 Sunrise Valley Drive, Mail Stop 400, Reston, VA 20192, romalley@usgs.gov.

SUPPLEMENTARY INFORMATION: We, the Department of the Interior, announce the establishment of the Advisory Committee on Climate Change and Natural Resource Science. We are establishing the Committee in accordance with the provisions of the Federal Advisory Committee Act, as amended (5 U.S.C. Appendix 2), and with the concurrence of the General Services Administration.

The Committee will:

• Advise on the contents of a national strategy identifying key science priorities to advance management of natural resources in the face of climate change.

• Advise on the nature, extent, and quality of relations with and engagement of key partners at the regional Climate Science Center level.

• Advise on the nature and effectiveness of mechanisms to ensure identification of key priorities from management partners and to effectively deliver scientific results in useful forms.

• Advise on mechanisms that may be employed by the National Climate Change and Wildlife Science Center to ensure high standards of scientific quality and integrity in its products.

• Review and evaluate the performance of individual Climate Science Centers before re-establishing expiring agreements.

• Coordinate as appropriate with any Federal Advisory Committee established for the DOI Landscape Conservation Cooperatives.

We are seeking nominations for individuals to be considered as Committee members. Nominations should include a resume that describes the nominee's qualifications in enough detail to enable us to make an informed decision regarding meeting the membership requirements of the Committee and to contact a potential member.

Members of the Committee will be composed of approximately 25 members from both the Federal Government, and the following interests: (1) State and local governments, including state membership entities; (2) Non-governmental organizations, including those whose primary mission is professional and scientific and those whose primary mission is conservation and related scientific and advocacy activities; (3) American Indian tribes and other Native American entities; (4) Academia; (5) Individual landowners; and (6) Business interests.

In addition, the Committee may include scientific experts, and will include rotating representation from one or more of the institutions that host the DOI Climate Science Centers.

The Committee will meet approximately 2-4 times annually, and at such times as designated by the DFO. The Secretary of the Interior will appoint members to the Committee. Members appointed as special Government employees are required to file on an annual basis a confidential financial disclosure report.

No individual who is currently registered as a Federal lobbyist is eligible to serve as a member of the Committee.

Certification Statement: I hereby certify that the establishment of the Advisory Committee on Climate Change and Natural Resource Science is necessary, is in the public interest, and is established under the authority of the Secretary of the Interior, in connection with the performance of the responsibilities of the Department of the Interior under Section 2 of the Reorganization Plan No. 3 of 1950 (64 Stat. 1262), as amended, and the Consolidated Appropriations Act of 2008, Public Law 110-161.

Dated: September 25, 2012.
Ken Salazar,
Secretary of the Interior.

[FR Doc. 2012-24478 Filed 10-3-12; 8:45 am]

BILLING CODE 4310-MR-P